DEPARTMENT OF DEFENSE

Department of the Army; Corps of Engineers

Board on Coastal Engineering Research

AGENCY: Department of the Army, DoD.

ACTION: Notice of meeting.

SUMMARY: In accordance with Section 10(a)(2) of the Federal Advisory Committee Act (Pub. L. 92-463), announcement is made of the following committee meeting:

Name of Committee: Board on Coastal Engineering Research.

Date of Meeting: March 4-5, 2009.

Place: Duke of Gloucester Room, Maryland Inn, 16 Church Circle, Annapolis, MD 21401.

Time: 8:30 a.m. to 4 p.m. (March 4, 2009).

8 a.m. to 12 p.m. (March 5, 2009).

FOR FURTHER INFORMATION CONTACT: Inquiries and notice of intent to attend the meeting may be addressed to COL Gary E. Johnston, Executive Secretary, Engineer Research and Development Center, Waterways Experiment Station, 3909 Halls Ferry Road, Vicksburg, MS 39180-6199.

SUPPLEMENTARY INFORMATION: The Board provides broad policy guidance and review of plans and fund requirements for the conduct of research and development of research projects in consonance with the needs of the coastal engineering field and the objectives of the Chief of Engineers.

Proposed Agenda: This meeting is devoted to an Executive Session of the Board to develop recommendations to the Chief of Engineers regarding the importance of MORPHOS model and other research needed as part of the Board's on-going task of developing the concept of a “Systems Approach to Coastal Management” and to develop a plan of action for the Board's continuing work on the systems concept.

The meeting is open to the public, but since seating capacity of the meeting room is limited, advance notice of intent to attend, although not required, is requested in order to assure adequate arrangements for those wishing to attend.

Gary E. Johnston,
Colonel, U.S. Army Corps of Engineers, Executive Secretary.

[FR Doc. E9-3253 Filed 2-13-09; 8:45 am]

BILLING CODE 3720-58-P